DEPARTMENT OF THE INTERIOR

Bureau of Land Management

[NV-060-1990]

Notice of Intent To Prepare a Supplemental Environmental Impact Statement for the Round Mountain Expansion Project, Nye County, NV

AGENCY: Bureau of Land Management, Interior.

ACTION: Notice of Intent (NOI).

SUMMARY: Pursuant to section 102(2)(c) of the National Environmental Policy Act of 1969, 40 Code of Federal Regulations (CFR) subparts 1500-1508, and 43 CFR subpart 3809, notice is hereby given that the Bureau of Land Management (BLM), Battle Mountain Field Office, Tonopah Field Station, will be preparing a Supplemental Environmental Impact Statement (SEIS) for the Round Mountain Expansion Project located in Nye County, Nevada. The proposal includes expansion of existing facilities at the Round Mountain mine and the development of new mining and leaching facilities at the adjacent Gold Hill ore deposit.

DATES: This notice initiates the public scoping period. Written comments on the scope of the SEIS should be post-marked or hand delivered to the Tonopah Field Station by 4:30 p.m., no later than 30 days after the date of publication in the Federal Register to ensure full consideration. The public will be notified of scoping meetings through the local news media at least 15 days prior to the first meeting.

ADDRESSES: Written scoping comments should be sent to the Bureau of Land Management, Tonopah Field Station, P.O. Box 911, Tonopah, NV 89049, ATTN: George Deverse. Written comments may also be faxed to George Deverse at (775) 482-7810, or submitted in writing to the BLM at one of the scoping meetings. To be most helpful, formal scoping comments should be submitted within 30 days after the date of publication of this notice, although comments will be accepted throughout the development of the SEIS. Comments and documents pertinent to this proposal, including names and street addresses of respondents, may be examined at the Tonopah Field Station, 1553 South Main, Tonopah, NV, during regular business hours (7:30 a.m.-4:30 p.m., Monday through Friday, except holidays). Comments may be published as part of the SEIS.

Your response is important and will be considered in the environmental analysis process. If you choose to include your address, phone number, e-mail address, or other personal identifying information in your comment, be advised that your entire comment, including your personal identifying information—may be made publicly available at any time. While you can ask us in your comment to withhold from public review your personal identifying information, we cannot guarantee that we will be able to do so. All submissions from organizations and businesses, and from individuals identifying themselves as representatives or officials of organizations or businesses, will be available for public inspection in their entirety.

FOR FURTHER INFORMATION CONTACT: For further information and/or to have your name added to our mailing list, contact: George Deverse at the BLM Tonopah address, or call (775) 482-7800.

SUPPLEMENTARY INFORMATION: Round Mountain Gold Corporation (RMGC) has submitted an amended Plan of Operations (NVN-72662) to the BLM for the proposed mining project. A third-party contractor will prepare the SEIS under the direction of the BLM. Pursuant to Council on Environmental Quality (CEQ) regulations 1502.14(a) and 1502.14(d), in addition to the proposed action, the BLM will explore and objectively evaluate all reasonable alternatives, including the alternative of no action. For the SEIS, the reasonable range of alternatives may include partial or full pit backfill. The Round Mountain Expansion Project Amended Plan of Operations (Plan) will be presented to the public during scoping meetings to be held in Round Mountain and Tonopah, Nevada. Informational letters on the Plan will be mailed to interested parties. The Plan will be available for public review at BLM's Tonopah Field Station. The BLM invites public comment on the scope of the analysis, including issues to consider and alternatives to the proposed action. The purpose of the public scoping process is to determine relevant issues that will influence the scope of the environmental analysis and SEIS alternatives. BLM personnel will be present at the scoping meetings to explain the environmental review process, the mining regulations, and other requirements for processing the proposed Plan amendment and the associated SEIS. Representatives of RMGC will also be available to describe their proposal. You may submit comments on issues in writing to the BLM at the public scoping meetings, or you may submit them to the BLM using one of the methods listed in the ADDRESSES section above. Comments received and a list of attendees for each scoping meeting will be made available for public inspection. The comment period will remain open for 30 days following each meeting for any participant(s) who wish to clarify their views.

The proposed project area is located approximately 55 miles north of Tonopah, Nevada, and is in Mt. Diablo Meridian, Townships 9, 10 and 11 North, Ranges 43 and 44 East. The existing Round Mountain mine project boundary encompasses about 7,263 acres; of which 4,269 acres are administered by the BLM Tonopah Field Station, 133.4 acres are administered by the U.S Department of Agriculture, Forest Service, Humbolt-Toiyabe National Forest, and 1,033.6 acres of patented land are owned by the Smoky Valley Common Operation, which is a joint venture of wholly-owned subsidiaries of Kinross Gold Corporation and Barrick Gold Corporation. Current disturbance within this area is approximately 5,436 acres. The road connecting the Round Mountain operation area with the adjacent proposed Gold Hill operation area would be about 1.3 miles in length, and located on land administered by the BLM on mining claims controlled by RMGC.

The proposed Round Mountain expansion project would include increasing the existing Round Mountain mine plan boundary by 3,122 acres (to a total of 10,385 acres); expanding the Round Mountain pit by approximately 450 feet in depth and by 210 acres in size (to approximately 1,290 acres); expanding the dewatering operations by 3,125 gallons per minute (for a total of 7,525 gallons per minute); conducting underground mining operations within the Round Mountain pit; expanding the North Waste Rock Dump by 746 acres (to approximately 2,584 acres); adding the North Dedicated Leach Pad (a new pad with a footprint of approximately 443 acres), increasing the daily production capacity from 11,000 tons per day to 22,000 tons per day; and increasing tailings disposal capacity by adding 930 new acres of cells (expanded from 677 acres of current disturbance, for a combined footprint of approximately 1,607 acres). Development at the Gold Hill ore deposit would include delineating a Gold Hill disturbance boundary of approximately 4,932 acres; constructing a haul road and utility corridor of about 81 acres between the Round Mountain operation area and the Gold Hill operation area; excavating an open pit with a footprint of approximately 380 acres; creating two waste rock dumps with combined footprints of approximately 553 acres; constructing and operating a heap leach facility and lined solution ponds with a footprint of approximately 280 acres. Depending on economics, the Gold Hill operation may be developed concurrently with the Round Mountain operation or expansion may occur as the Round Mountain pit approaches completion. Construction and operation of the Round Mountain Expansion Project is projected to begin in 2008. Active mining would last approximately 13 years, followed by mine site reclamation, closure, and monitoring.

An interdisciplinary approach will be used to develop the SEIS, in order to consider the variety of resource issues and concerns identified. Potential significant direct, indirect, residual, and cumulative impacts from the proposed action will be analyzed in the SEIS. Significant issues to be addressed in the SEIS include dewatering, cultural and Native American concerns, and visual resources. Additional issues may be identified during the scoping process. Federal, State, and local agencies, as well as individuals or organizations that may be interested in or affected by the BLM's decision on this plan amendment are invited to participate in the scoping process and, if eligible, may request or be requested by the BLM to participate as a cooperating agency.

Dated: October 30, 2006.
Gene Seidlitz,
Associate Field Manager, Battle Mountain Field Office.

[FR Doc. E6-22059 Filed 12-22-06; 8:45 am]

BILLING CODE 4310-HC-P